ENVIRONMENTAL PROTECTION AGENCY

[FRL-9960-63-OA]

Notification of a Meeting of the Science Advisory Board Economy-Wide Modeling Panel

AGENCY: Environmental Protection Agency (EPA).

ACTION: Notice.

SUMMARY: The Environmental Protection Agency (EPA) Science Advisory Board (SAB) Staff Office announces a public meeting of the SAB Economy-Wide Modeling Panel to discuss its draft responses on charge questions from the EPA's National Center for Environmental Economics and the Office of Air and Radiation on economic analysis for air regulations at the EPA.

DATES: The public meeting will be held on May 24, 2017, from 8:00 a.m. to 5:00 p.m. (Eastern Time).

ADDRESSES: The meeting will take place at the Hyatt Regency Crystal City, 2799 Jefferson Davis Highway, Arlington, VA 22202. Teleconference lines will also be available for members of the public who are unable to attend the meeting in person.

FOR FURTHER INFORMATION CONTACT: Any member of the public wishing further information regarding the public meeting may contact Dr. Holly Stallworth, Designated Federal Officer (DFO), SAB Staff Office, by telephone at (202) 564-2073 or email at stallworth.holly@epa.gov. The SAB mailing address is U.S. EPA Science Advisory Board (1400R), U.S. Environmental Protection Agency, 1200 Pennsylvania Avenue NW., Washington, DC 20460. General information about the SAB, including information concerning the SAB meeting announced in this notice, can be found at the SAB Web page at http://epa.gov/sab.

SUPPLEMENTARY INFORMATION: Background: The SAB was established pursuant to the Environmental Research, Development, and Demonstration Authorization Act (ERDAA) codified at 42 U.S.C. 4365, to provide independent scientific and technical peer review, advice, consultation, and recommendations to the EPA Administrator on the technical basis for Agency positions and regulations. The SAB is a Federal Advisory Committee chartered under the Federal Advisory Committee Act (FACA), 5 U.S.C., App. 2. The SAB will comply with the provisions of FACA and all appropriate SAB Staff Office procedural policies. Pursuant to FACA and EPA policy, notice is hereby given that the SAB Economy-Wide Modeling Panel will hold a public meeting to further discuss its draft responses on charge questions from EPA's National Center for Environmental Economics and the Office of Air and Radiation on economic analysis for air regulations at the EPA. The Panel will provide advice to the Administrator through the chartered SAB.

This is the third face-to-face meeting. On May 24, 2017, the Economy-Wide Modeling Panel expects to complete its major deliberations on its conclusions and recommendations on economy-wide modeling for EPA's air regulations.

All draft reports developed by SAB panels, committees or workgroups are reviewed and approved by the Chartered SAB through a quality review process before being finalized and transmitted to the EPA Administrator.

Availability of the meeting materials: An agenda and draft report will be posted on the SAB Web site prior to the May 24, 2017, meeting. To locate meeting materials, go to http://yosemite.epa.gov/sab/sabproduct.nsf/fedrgstr_activites/Economywide%20modeling?OpenDocument. For questions concerning EPA's review materials on economy-wide modeling, please contact Dr. Ann Wolverton, EPA National Center for Environmental Economics at wolverton.ann@epa.gov or 202-566-2278.

Procedures for Providing Public Input: Public comment for consideration by EPA's federal advisory committees and panels has a different purpose from public comment provided to the EPA program offices. Therefore, the process for submitting comments to a federal advisory committee is different from the process used to submit comments to an EPA program office. Federal advisory committees and panels, including scientific advisory committees, provide independent advice to the EPA. Members of the public can submit relevant comments on the topic of this advisory activity, including the charge to the panel and the EPA review documents, and/or the group conducting the activity, for the SAB to consider during the advisory process. Input from the public to the SAB will have the most impact if it consists of comments that provide specific scientific or technical information or analysis for the SAB panel to consider or if it relates to the clarity or accuracy of the technical information.

Oral Statements: In general, individuals or groups requesting an oral presentation will be limited to five minutes per speaker for the face-to-face meeting. Interested parties should contact Dr. Holly Stallworth, DFO, in writing (preferably via email), at the contact information noted above by May 16, 2017, to be placed on the list of public speakers for the meeting.

Written Statements: Written statements will be accepted throughout the advisory process; however, for timely consideration by Committee/Panel members, statements should be supplied to the DFO (preferably via email) at the contact information noted above by May 16, 2017. It is the SAB Staff Office general policy to post written comments on the Web page for the advisory meeting or teleconference. Submitters are requested to provide an unsigned version of each document because the SAB Staff Office does not publish documents with signatures on its Web site. Members of the public should be aware that their personal contact information, if included in any written comments, may be posted to the SAB Web site. Copyrighted material will not be posted without explicit permission of the copyright holder.

Accessibility: To request accommodation of a disability, please contact Dr. Stallworth at 202-564-2073 or stallworth.holly@epa.gov. To request accommodation of a disability please contact Dr. Stallworth, preferably at least ten days prior to the meeting, to give the EPA as much time as possible to process your request.

Dated: March 20, 2017.
Khanna Johnston,
Acting Deputy Director, EPA Science Advisory Board Staff Office.

[FR Doc. 2017-07132 Filed 4-7-17; 8:45 am]

BILLING CODE 6560-50-P